DEPARTMENT OF TRANSPORTATION

Federal Aviation Administration

Notice of Intent To Rule on Request To Release Airport Property at Searcy County Municipal Airport, Marshall, Arkansas

AGENCY: Federal Aviation Administration (FAA), DOT.

ACTION: Notice of request to release airport property.

SUMMARY: The FAA proposes to rule and invites public comment on the release of land at the Searcy County Municipal Airport under the provisions of Title 49 United States Code, Section 47153.

DATES: Comments must be received on or before May 25, 2006.

ADDRESSES: Comments on this application may be mailed or delivered to the FAA at the following address: Mr. Edward Agnew, Manager, Federal Aviation Administration, Southwest Region, Airports Division, Arkansas/Oklahoma Airports Development Office, ASW-630, Fort Worth, Texas 76193-0630.

In addition, one copy of any comments submitted to the FAA must be mailed or delivered to Judge Johnny Hinchey, County of Searcy, Arkansas, at the following address: County of Searcy, P.O. Box 1370, Searcy, AR 72650.

FOR FURTHER INFORMATION CONTACT: Mr. Don Harris, Senior Program Manager, Federal Aviation Administration, Southwest Region, Airports Division, Arkansas/Oklahoma Airports Development Office, ASW-631, Fort Worth, Texas 76193-0630.

The request to release property may be reviewed in person at this same location.

SUPPLEMENTARY INFORMATION: The FAA invites public comment on the request to release property at Searcy County Municipal Airport under the provisions of the Act.

On April 4, 2006, FAA determined that the request to release property at Searcy County Municipal Airport submitted by the County of Searcy met the procedural requirements of the Federal Aviation Regulations, Part 155. The FAA may approve the request, in whole or in part, no later than May 31, 2006.

The following is a brief overview of the request: The County of Searcy requests the release of approximately 2 acres of airport property. The land is encumbered by Federal grant assurances pursuant to the receipt of Federal Airport Improvement Program funds. The release of property will allow the city of Marshall to accept a United States Department of Agriculture Rural Development grant for the construction and operation of a fire station at the airport.

The appraised value of the subject property is $22,000.00. The city has committed toward providing in-kind services of fire protection and emergency medical services for the public airport at an estimated value of $2,400.00 annually.

Any person may inspect the request in person at the FAA office listed above under FOR FURTHER INFORMATION CONTACT.

In addition, any person may, upon request, inspect the application, notice and other documents germane to the application in person at the Searcy County Municipal Airport.

Issued in Fort Worth, Texas, on April 6, 2006.
Kelvin L. Solco,
Manager, Airports Division.

[FR Doc. 06-3756 Filed 4-24-06; 8:45 am]

BILLING CODE 4910-13-M